DEPARTMENT OF THE INTERIOR

Fish and Wildlife Service

[FWS-HQ-IA-2014-N175; FXIA16710900000-145-FF09A30000]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, U.S. Fish and Wildlife Service, Division of Management Authority, Branch of Permits, MS: IA, 5275 Leesburg Pike, Falls Church, VA 22041; fax (703) 358-2280; or email DMAFR@fws.gov.

FOR FURTHER INFORMATION CONTACT: Brenda Tapia, (703) 358-2104 (telephone); (703) 358-2280 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Endangered Species

Permit No. | Applicant | Receipt of application Federal Register notice | Permit issuance date
28675B | Steven Hornady | 79 FR 14528; March 14, 2014 | 06/03/2014
28677B | Jerry Brenner | 79 FR 14528; March 14, 2014 | 06/03/2014
28678B | Alan Sackman | 79 FR 14528; March 14, 2014 | 06/03/2014
28679B | Barbara Sackman | 79 FR 14528; March 14, 2014 | 06/03/2014
28680B | Trevor Ahlberg | 79 FR 14528; March 14, 2014 | 06/03/2014
28682B | Daniel Smith | 79 FR 14528; March 14, 2014 | 06/03/2014
28684B | Renee Snider | 79 FR 14528; March 14, 2014 | 06/03/2014
28687B | Craig Boddington | 79 FR 14528; March 14, 2014 | 06/03/2014
28691B | Joseph Smith | 79 FR 14528; March 14, 2014 | 06/03/2014
29431B | Richard Bisbee | 79 FR 18575; April 2, 2014 | 07/30/2014
34806B | Antonia Hall | 79 FR 28941; May 20, 2014 | 07/29/2014
32349B | Indianhead Ranch | 79 FR 28941; May 20, 2014 | 07/30/2014

Marine Mammals

Permit No. | Applicant | Receipt of application Federal Register notice | Permit issuance date
31599B | Patricia Tucker, Feathering Crest Aviary | 79 FR 24445; April 30, 2014 | July 7, 2014.

Availability of Documents

Documents and other information submitted with these applications are available for review, subject to the requirements of the Privacy Act and Freedom of Information Act, by any party who submits a written request for a copy of such documents to: U.S. Fish and Wildlife Service, Division of Management Authority, Branch of Permits, MS: IA, 5275 Leesburg Pike, Falls Church, VA 22041; fax (703) 358-2280.

Brenda Tapia,
Program Analyst/Data Administrator, Branch of Permits, Division of Management Authority.

[FR Doc. 2014-19340 Filed 8-14-14; 8:45 am]

BILLING CODE 4310-55-P